ENVIRONMENTAL PROTECTION AGENCY

[EPA-HQ-SFUND-2005-0007, FRL-9935-26-OSWER; EPA ICR Number 1426.11, OMB Control Number 2050-0105]

Agency Information Collection Activities; Proposed Collection; Comment Request; EPA Worker Protection Standards for Hazardous Waste Operations and Emergency Response (Renewal)

AGENCY: Environmental Protection Agency (EPA).

ACTION: Notice.

SUMMARY: In compliance with the Paperwork Reduction Act (PRA) (44 U.S.C. 3501 et seq.), this document announces that Environmental Protection Agency (EPA) is planning to submit a request to renew an existing approved Information Collection Request (ICR) to the Office of Management and Budget (OMB). This ICR is scheduled to expire on December 31, 2015. Before submitting the ICR to OMB for review and approval, EPA is soliciting comments on specific aspects of the proposed information collection as described below.

DATES: Comments must be submitted on or before December 4, 2015.

ADDRESSES: Submit your comments, identified by Docket ID No. EPA-HQ-SFUND-2005-0007 by one of the following methods:

• www.regulations.gov: Follow the on-line instructions for submitting comments.

• Email: superfund.docket@epa.gov.

• Mail: EPA Docket Center, Environmental Protection Agency, Mail Code: 28221T, 1200 Pennsylvania Ave. NW., Washington, DC 20460.

EPA's policy is that all comments received will be included in the public docket without change and may be made available online at www.regulations.gov, including any personal information provided, unless the comment includes information claimed to be Confidential Business Information (CBI) or other information whose disclosure is restricted by statute.

FOR FURTHER INFORMATION CONTACT: Sella M. Burchette, U.S. Environmental Response Team, MS 101, Building 205, Edison, NJ 08837, telephone number: 732-321-6726; fax number: 732-321-6724; email address: burchette.sella@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA specifically solicits comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Section 126(f) of the Superfund Amendments and Reauthorization Act of 1986 (SARA) requires EPA to set worker protection standards for State and local employees engaged in hazardous waste operations and emergency response in the 27 States that do not have Occupational Safety and Health Administration approved State plans. The EPA coverage, as cited in 40 CFR 311, required to be identical to the OSHA standards, extends to three categories of employees: Those engaged in clean-ups at uncontrolled hazardous waste sites, including corrective actions at Treatment, Storage and Disposal (TSD) facilities regulated under the Resource Conservation and recovery Act (RCRA); employees working on routine hazardous waste operations at RCRA TSD facilities; and employees involved in emergency response operations without regard to location. This ICR renews existing mandatory record keeping collection of ongoing activities including monitoring of any potential employee exposure at uncontrolled hazardous waste sites, maintaining records of employee training, refresher training, medical exams and reviewing emergency response plans.

Form Numbers: None.

Respondents/Affected Entities: Entities potentially affected by this action are those State and local employees engaged in hazardous waste operations and emergency response in the 27 States that do not have Occupational Health & Safety Administration (OSHA) approved State plans.

Respondent's Obligation To Respond: 40 CFR part 311 has no reporting requirements. There are record keeping requirements by inference in Section (e) and by statue in Section (f)[8] of OSHA's 29 CFR 1910.120.

Estimated Total Number of Respondents: 24,000.

Frequency of Response: Annually recordkeeping. No response required to Agency.

Estimated Total Annual Burden Hours: 255,427 hours.

Estimated Total Annual Costs: $3,528,888, which is entirely for labor. There are no capital investment or maintenance and operational costs.

Changes in Estimates: These burden estimates reflect what is currently approved by OMB, without change. EPA will provide revised burden estimates when the second comment period for this ICR is opened. However, as the universe and regulations have not changed, EPA does not anticipate any substantive changes to the burden figures.

Dated: September 24, 2015.
James E. Woolford,
Director, Office of Superfund Remediation and Technology Innovation.

[FR Doc. 2015-25323 Filed 10-2-15; 8:45 am]

BILLING CODE 6560-50-P